DEPARTMENT OF JUSTICE

Notice of Lodging of Settlement Agreement and Consent Decree Under the Comprehensive Environmental Response, Compensation and Liability Act

Under 28 CFR 50.7, notice is hereby given that on November 6, 2001, a proposed Settlement Agreement and Consent Decree (“Decree”) in United States and State of Colorado v. Robert Friedland, Civil No. 96-N-1213, was lodged with the United States District of Colorado. The United States and State of Colorado filed this action pursuant to the Comprehensive Environmental Response, Compensation and Liability Act for recovery of costs incurred by the United States and State of Colorado in responding to releases of hazardous substances at the Summitville Mine Superfund Site near Del Norte, Colorado.

Pursuant to the proposed Decree, defendants Aztec Minerals Corporation, South Mountain Minerals Corporation, and Gray Eagle Mining Corporation will pay $192,943 to the United States and State of Colorado and transfer certain properties to the United States to resolve the claims of the governments.

The Department of Justice will receive for a period of thirty (30) days from the date of this publication comments relating to the Decree. Comments should be addressed to the Assistant Attorney General, Environment and Natural Resources Division, P.O. Box 7611, U.S. Department of Justice, Washington, DC 20044-7611, and should refer to, United States and State of Colorado v. Robert Friedland, Civil No. 96-N-1213, and D.J. Ref. #90-11-3-1133B.

The Decree may be examined at the office of the U.S. Department of Justice, Environmental Enforcement Section, 999 18th Street, Suite 945, North Tower, Denver, Colorado; at U.S. EPA Region 8, Office of Regional Counsel, 999 18th Street, Suite 300, South Tower, Denver Colorado. A copy of the Decree may also be obtained by mail from the Consent Decree Library, P.O. Box 7611, U.S. Department of Justice, Washington, DC 20044-7611. In requesting a copy, please enclose a check in the amount of $6.00 (25 cents per page reproduction cost) payable to the Consent Decree Library.

Robert D. Brook,
Assistant Chief, Environmental Enforcement Section, Environment and Natural Resources Division.

[FR Doc. 01-28564 Filed 11-14-01; 8:45 am]

BILLING CODE 4410-15-M